DEPARTMENT OF ENERGY

Federal Energy Regulatory Commission

[Docket No. CP01-49-002]

Northwest Pipeline Corporation; Notice of Application

July 3, 2003.

Take notice that on June 25, 2003, Northwest Pipeline Corporation (Northwest), 295 Chipeta Way, Salt Lake City, Utah 84158, filed in Docket No. CP01-49-002, an application pursuant to sections 7(c) and 7(b) of the Natural Gas Act (NGA), as amended, and part 157 of the regulations of the Federal Energy Regulatory Commission (Commission), to amend the certificate of public convenience and necessity that was issued for its Everett Delta Lateral project by Commission order dated October 25, 2001 in Docket Nos. CP01-49-000 and CP01-49-001 and to request related permission and approval for pre-granted abandonment, all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

As currently certificated, Northwest states that the Everett Delta Lateral project, in Snohomish County, Washington, includes approximately 9 miles of 20-inch lateral pipeline, two delivery meter stations at the lateral terminus near Everett, Washington and related facilities designed to be constructed, owned and operated by Northwest to provide transportation deliveries from Northwest's mainline to serve a planned new power plant and to provide additional service to a local gas distribution company customer, Puget Sound Energy, Inc. (Puget).

After issuance of the certificate for the Everett Delta Lateral project, Northwest states that the new power plant that was the anchor market for the project was canceled and the facilities agreements underlying the project were terminated. Thusly, Northwest states that it and Puget then negotiated new commercial arrangements for a revised Everett Delta Lateral project designed to serve only Puget's growing distribution requirements in that area.

Northwest states that it is now requesting the Commission to amend the certificate for the Everett Delta Lateral project to authorize Northwest to construct and operate 9.15 miles of 16-inch lateral pipeline (on the originally certificated route), one meter station located at the start of the lateral, two lateral delivery taps and related facilities designed to provide approximately 113.1 MDth/d of firm transportation service for Puget from Northwest's mainline to the delivery taps.

Northwest states that it is now proposing to allow Puget to be the passive owner of the lateral and meter station facilities, with Northwest leasing and operating the lateral facilities as part of its interstate transmission system for a term of five years. Northwest states that it requests pre-granted abandonment approval of its lease and operation of the lateral upon expiration of the five-year lease term, at which time Puget will begin operating the lateral as part of its local distribution system.

Northwest states that the estimated total cost for the now revised Everett Delta Lateral project is approximately $24.6 million and that Puget will pay in advance and reimburse Northwest in full for the actual construction costs.

Northwest states that Puget requires expanded delivery capacity into its Everett, Washington distribution area by the 2004/2005 winter heating season. To allow sufficient time for completion of the proposed delivery facilities by November 1, 2004, Northwest states that it requests the Commission to issue the requested amended certificate order, and related approvals, by January 2004.

Any questions concerning this application may be directed to Gary K. Kotter, Manager, Certificates and Tariffs-3C1, Northwest Pipeline Corporation, P.O. Box 58900, Salt Lake City, Utah 84158-0900, at (801) 584-7117 or fax (801) 584-7764.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: July 24, 2003.

Linda Mitry,
Acting Secretary.

[FR Doc. 03-17483 Filed 7-9-03; 8:45 am]

BILLING CODE 6717-01-P